DEPARTMENT OF THE TREASURY

Call for Nominations for Secretary Appointments to Treasury Tribal Advisory Committee

AGENCY: Department of the Treasury.

ACTION: Notice.

SUMMARY: This notice announces that the Designated Federal Officer of the Department of the Treasury Tribal Advisory Committee (TTAC) is seeking on behalf of the Secretary of the Treasury (Secretary) nominations for three individuals to be appointed by the Secretary as members of the TTAC. The TTAC advises the Secretary on matters related to the taxation of Indians, training and education for Internal Revenue Service (IRS) field agents who administer and enforce internal revenue laws with respect to Indian tribes, and training and technical assistance for tribal financial officers. Nominations should describe the candidate's qualifications for TTAC membership. Submittal of an application and resume for each nominee is required.

DATES: Please submit applications for appointment by the Secretary to the TTAC, the names and qualifications of individuals you would recommend for appointment to the TTAC by the Secretary, or any comments on this matter, before June 1, 2021.

ADDRESSES: Please send applications or recommendations to TTAC@treasury.gov, with a subject line “Treasury Tribal Advisory Committee member application or recommendation.” Self-nominations and re-nominations of current TTAC members are welcome. The Department of the Treasury will accept applications for Secretarial appointments to the TTAC until June 1, 2021.

FOR FURTHER INFORMATION CONTACT: Nancy Montoya, Policy Analyst, Department of the Treasury, 1500 Pennsylvania Avenue NW, Room 1426G, Washington, DC 20220, at (202) 622-2031 (this is not a toll-free number) or by emailing TTAC@treasury.gov. Persons who have difficulty hearing or speaking may access this number via TTY by calling the toll-free Federal Relay Service at (800) 877-8339.

SUPPLEMENTARY INFORMATION: This request for nominations, particularly from tribal leaders, is in furtherance of the objectives of Executive Order 13175, as reaffirmed by the Presidential Memorandum of January 26, 2021 (Tribal Consultation and Strengthening Nation-to-Nation Relationships).

Background

I. Description and Mandate of the TTAC

Section 3 of the Tribal General Welfare Exclusion Act of 2014 (TGWEA), Public Law 113-68, 128 Stat. 1883 (Sept. 26, 2014), directs the Secretary to establish a Tribal Advisory Committee to advise the Secretary on matters related to the taxation of Indians, the training of Internal Revenue Service field agents, and the provision of training and technical assistance to Native American financial officers.

Pursuant to Section 3 of the TGWEA and in accordance with the provisions of the Federal Advisory Committee Act (FACA), 5 U.S.C. App. 1 et seq., the TTAC was established on February 10, 2015, as the “Department of the Treasury Tribal Advisory Committee.” The TTAC's Charter provides that it shall operate under the provisions of the FACA and shall advise and report to the Secretary on:

(1) Matters related to the taxation of Indians;

(2) The establishment of training and education for internal revenue field agents who administer and enforce internal revenue laws with respect to Indian tribes of Federal Indian law and the Federal Government's unique legal treaty and trust relationship with Indian tribal governments; and

(3) The establishment of training of such internal revenue field agents, and provisions of training and technical assistance to tribal financial officers, about implementation of the TGWEA and any amendments.

Section 3(c) of the TGWEA provides that the TTAC's membership is composed of seven members in total, three members appointed by the Secretary and one member appointed by each of the following four Members of Congress: The Chairman and Ranking Member of the Committee on Ways and Means of the House of Representatives and the Chairman and Ranking Member of the Committee on Finance of the Senate. Pursuant to section 3(c)(2) of the TGWEA, the first members appointed by the Secretary serve for a term of two years. All Congressional appointments and all but the first Secretary appointments are made for a term of four years. The terms of the first seven appointed TTAC members began on June 20, 2019, the date of the TTAC's first meeting.

This notice requests nominations for the three Secretary appointments whose terms expire on June 20, 2021. Recommendations for the four Congressional appointments to the TTAC expiring on June 20, 2023, should be directed to the offices of the four Members of Congress specified in the law, whose roles are identified above.

II. Application for TTAC Appointment

On behalf of the Secretary, the Designated Federal Officer of the TTAC seeks applications from individuals with experience and qualifications in the subject areas identified by the TWGEA: Indian taxation, IRS field agent training, and Native American financial officer training and technical assistance. TTAC members appointed by the Secretary will serve as volunteers for terms of four years. TTAC member travel expenses will be reimbursed within U.S. government guidelines. No person who is a federally-registered lobbyist may serve on the TTAC. All potential candidates must pass an IRS tax compliance check and a Federal Bureau of Investigation (FBI) background investigation.

To apply, an applicant must submit an appropriately detailed resume and a cover letter that includes a description of the applicant's reason for applying. An applicant must state in the application materials that he or she agrees to submit to a pre-appointment tax and criminal background investigation in accordance with Treasury Directive 21-03.

Dated: March 29, 2021.
Krishna P. Vallabhaneni,
Tax Legislative Counsel and Designated Federal Officer.

[FR Doc. 2021-06747 Filed 3-31-21; 8:45 am]

BILLING CODE 4810-AK-P